DEPARTMENT OF HEALTH AND HUMAN SERVICES

Substance Abuse and Mental Health Services Administration

Center for Substance Abuse Treatment; Notice of Meeting

Pursuant to Public Law 92-463, notice is hereby given of a Teleconference Meeting of the Center for Substance Abuse Treatment (CSAT) National Advisory Council to be held August 30, 2006.

The meeting will include the review, discussion and evaluation of grant applications reviewed by IRGs. Therefore, the meeting will be closed to the public as determined by the SAMHSA Administrator, in accordance with Title 5 U.S.C. 552b(c)(6) and 5 U.S.C. App. 2, section 10(d).

A summary of the meeting and a roster of Council members may be obtained by accessing the SAMHSA Advisory Council Web site (www.samhsa.gov) as soon as possible after the meeting, or by communicating with the contact whose name and telephone number are listed below.

Committee Name: Substance Abuse and Mental Health Services Administration, Center for Substance Abuse Treatment National Advisory Council.

Meeting Date: August 30, 2006.

Place: 1 Choke Cherry Road, Conference Room, 5-1146, Rockville, MD 20857.

Type: Closed: August 30, 2006—1:30 p.m.-2:30 p.m.

Contact: Cynthia A. Graham, M.S., Executive Secretary, SAMHSA/CSAT National Advisory Council, 1 Choke Cherry Road, Room 5-1036, Rockville, MD 20857, telephone: (240) 276-1692, fax: (240) 276-1690, e-mail: cynthia.graham@samhsa.hhs.gov.

Dated: July 13, 2006.
Toian Vaughn,
Committee Management Officer, Substance Abuse and Mental Health, Services Administration.

[FR Doc. E6-11533 Filed 7-19-06; 8:45 am]

BILLING CODE 4162-20-P